DEPARTMENT OF TRANSPORTATION

Federal Aviation Administration

Eighth Meeting: RTCA Subcommittee 228 (SC 228)

AGENCY: Federal Aviation Administration (FAA), U.S. Department of Transportation (DOT).

ACTION: Eighth Meeting Notice of RTCA Subcommittee 228.

SUMMARY: The FAA is issuing this notice to advise the public of the eighth meeting of the RTCA Subcommittee 228.

DATES: The meeting will be held May 22nd from 9:00 a.m.-1:00 p.m.

ADDRESSES: The meeting will be held at RTCA, Inc., 1150 18th Street NW., Suite 910, Washington, DC 20036, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, 202-330-0654.

SUPPLEMENTARY INFORMATION: Pursuant to section 10(a)(2) of the Federal Advisory Committee Act (Pub. L. 92-463, 5 U.S.C., App.), notice is hereby given for a meeting of the RTCA Subcommittee 228. The agenda will include the following: Friday, May 22, 2015.

1. Welcome/Introductions/Administrative Remarks/SC-228 Participation Guidelines

a. Reading of the Public Announcement by the DFO

b. Reading of the RTCA Proprietary References Policy

2. Agenda Overview

3. Review/Approval of Minutes from Plenary #7 (RTCA Paper No. 256-14/SC228-019) held Friday, November 21st, 2014 at RTCA

4. Review of RTCA SC-228 Steering Committee Activity

5. Report from EUROCAE WG-73 on their progress

6. Report from WG-1 for Detect and Avoid progress on the DAA MOPS

7. Report from WG-2 for Command and Control progress on the CNPC MOPS

8. Action Item Review

9. Other Business

10. Date, Place and Time of Next Meeting(s)

a. Proposed—Plenary #9—Fall 2015 @ NASA Ames

b. Proposed—Plenary #10—

11. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 4, 2015.
Latasha Robinson,
Management & Program Analyst, NextGen, Program Oversight and Administration, Federal Aviation Administration.

[FR Doc. 2015-11041 Filed 5-6-15; 8:45 am]

BILLING CODE 4910-13-P